DEPARTMENT OF COMMERCE

International Trade Administration

[A-533-824]

Polyethylene Terephthalate Film, Sheet, and Strip From India: Final Results of Antidumping Duty Administrative Review; Second Correction 2021-2022

AGENCY: Enforcement and Compliance, International Trade Administration, Department of Commerce.

SUMMARY: The U.S. Department of Commerce (Commerce) determines that SRF Limited/SRF Limited of India/SRF Limited Packaging Films (SRF) did not make sales of subject merchandise to the United States at less than normal value during the period of review (POR) July 1, 2021, through June 30, 2022. We will apply SRF's rate to Jindal Poly Films Ltd. (India) (Jindal) and Polyplex Corporation Ltd. (Polyplex) for these final results.

DATES: Applicable February 5, 2024.

FOR FURTHER INFORMATION CONTACT: Jacqueline Arrowsmith, AD/CVD Operations, Office VII, Enforcement and Compliance, International Trade Administration, U.S. Department of Commerce, 1401 Constitution Avenue NW, Washington, DC 20230; telephone: (202) 482-5255.

SUPPLEMENTARY INFORMATION:

Background

On August 3, 2023, Commerce published the Preliminary Results and invited interested parties to comment on those results.¹ This review originally covered eight respondents: SRF; Jindal; Ester Industries Ltd.; Garware Polyester Ltd.; MTZ Polyesters, Ltd.; Polyplex; Uflex Ltd.; and Vacmet India Limited (Vacmet). We rescinded the review for six of these companies: Ester Industries Ltd.; Garware Polyester Ltd.; MTZ Polyesters, Ltd.; Polyplex; Uflex Ltd.; and Vacmet. We erroneously rescinded the review with respect to Polyplex, which we corrected in the Preliminary Results Correction on November 24, 2023.²

¹ See Polyethylene Terephthalate Film, Sheet, and Strip from India: Preliminary Results and Partial Rescission of Antidumping Duty Administrative Reviews; 2021-2022, 88 FR 51298 (August 3, 2023) (Preliminary Results), and accompanying Preliminary Decision Memorandum (PDM).

² See Polyethylene Terephthalate Film, Sheet, and Strip from India: Preliminary Results of Antidumping Duty Administrative Review and Partial Rescission of Antidumping Duty Administrative Review; 2021-2022; Correction, 88 FR 82321 (November 24, 2023) (Preliminary Results Correction); see also “Analysis of Comments Received,” below.

On September 26, 2023, Commerce issued a second supplemental questionnaire to SRF regarding sections B and C of the original questionnaire.³ SRF submitted its response along with new home market and U.S. sales datasets on October 16, 2023.⁴ We used these data sets for the final results along with SRF's original cost data set, submitted on February 9, 2023.⁵

³ See Commerce's Letter, “Second Supplemental Questionnaire,” dated September 26, 2023.

⁴ See SRF's Letter, “Submission of 2nd Supplemental response of Anti-Dumping Admin Review Questionnaire,” dated October 16, 2023.

⁵ See SRF's Letter, “Cost Data,” dated February 9, 2023.

On November 29, 2023, SRF submitted its response to the third supplemental questionnaire ⁶ in which Commerce requested further clarifications about the company name.⁷ In its supplemental questionnaire response, SRF stated that “SRF Limited” is the official name of the company and that going forward, SRF Limited will use only that name.⁸ In addition, SRF stated that “SRF Limited” is the official name of the company while “Packaging Film” is one division within the legal entity of SRF Limited.⁹ Given that SRF Limited may have used all three of these names on subject merchandise, the company has been reviewed as SRF Limited/SRF Limited of India/SRF Limited Packaging Films.

⁶ See SRF's Letter, “Submission of 3rd Supplemental response of Anti-Dumping Admin Review Questionnaire,” dated November 29, 2023 (SRF 3rd SQR).

⁷ See Commerce's Letter, “Supplemental Questionnaire,” dated November 22, 2023.

⁸ See SRF 3rd SQR at S3-1.

⁹ Id.

Scope of the Order ¹⁰

¹⁰ See Notice of Amended Final Antidumping Duty Determination of Sales at Less Than Fair Value and Antidumping Duty Order: Polyethylene Terephthalate Film, Sheet, and Strip from India, 67 FR 44175 (July 1, 2002) (Order).

The products covered by the Order are all gauges of raw, pretreated, or primed PET film, whether extruded or coextruded. Excluded are metalized films and other finished films that have had at least one of their surfaces modified by the application of a performance enhancing resinous or inorganic layer of more than 0.00001 inches thick. Imports of polyethylene terephthalate film, sheet, and strip are currently classifiable in the Harmonized Tariff Schedule of the United States (HTSUS) under item number 3920.62.00.90. HTSUS subheadings are provided for convenience and customs purposes. The written description of the scope of the Order is dispositive.

Analysis of Comments Received

On August 31, 2023, Polyplex USA LLC (Polyplex USA) submitted a letter in lieu of a case brief.¹¹ In the letter, Polyplex USA explained that although Commerce “recognizes in the Preliminary Determination {sic} {Results} that it `initiated a review of eight companies,' it erroneously stat{e}s that the review request for Polyplex was `timely withdrawn.' ” ¹² We agreed with Polyplex USA and, on November 24, 2023, Commerce published a correction notice.¹³ In the Correction to the Preliminary Results, we correctly assigned SRF's rate of zero percent to Polyplex.

¹¹ See Polyplex USA's Letter, “Polyplex USA LLC's Letter in Lieu of Case Brief,” dated August 31, 2023 (Polyplex USA's Letter).

¹² See Polyplex USA's Letter at 2; see also Preliminary Results at 51299.

¹³ See Preliminary Results Correction.

Commerce received no comments on the Preliminary Results beyond the request to amend the Preliminary Results to include a review of Polyplex and apply the rate calculated for SRF. Moreover, the data SRF submitted in its supplemental questionnaire responses did not change the rate we calculated for SRF in the Preliminary Results, and we have not otherwise modified our analysis. Thus, although we are issuing a final calculation memorandum in these final results,¹⁴ no issues and decision memorandum accompanies this Federal Register notice. We are adopting the analysis contained in the Preliminary Results as the final results of this review.

¹⁴ See Memorandum, “SRF's Final Analysis Memorandum,” dated concurrently with this Federal Register notice.

Second Correction to Partial Rescission

In the Preliminary Results and Preliminary Results Correction, we stated that we were rescinding the antidumping duty (AD) administrative review with respect to Vacmet India instead of Vacmet India Limited.¹⁵ With the publication of this notice, Commerce is clarifying that we rescinded the AD administrative review with respect to Vacmet India Limited.

¹⁵ See Preliminary Results, 88 FR at 51299; see also Preliminary Results Correction, 88 FR at 82321.

Final Results of Review

As a result of this review, Commerce determines that the following weighted-average dumping margin exists for the period July 1, 2021, through June 30, 2022:

Exporter/producer | Weighted- average dumping margin (percent)
Jindal Poly Films Ltd | 0.00
SRF Limited/SRF Limited of India/SRF Limited Packaging Films | 0.00
Polyplex Corporation Ltd | 0.00

Disclosure and Public Comment

Commerce intends to disclose the calculations performed in connection with these final results of review to interested parties within five days after public announcement of the final results or, if there is no public announcement, within five days of the date of publication of this notice in the Federal Register, in accordance with 19 CFR 351.224(b).

Assessment Rates

Pursuant to section 751(a)(2) of the Tariff Act of 1930, as amended (the Act), and 19 CFR 351.212(b)(1), Commerce has determined, and U.S. Customs and Border Protection (CBP) shall assess, ADs on all appropriate entries covered by this review. Because we calculated a zero percent margin in the final results of this review for SRF and assigned a zero percent rate to Jindal and Polyplex, in accordance with 19 CFR 351.212, we will instruct CBP to liquidate the appropriate entries without regard to ADs.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for all shipments of the subject merchandise entered, or withdrawn from warehouse, for consumption on or after the publication date, as provided for by section 751(a)(2)(C) of the Act: (1) the cash deposit rate for SRF, Jindal, and Polyplex will be zero, the rate established in the final results of this review; (2) for previously reviewed or investigated companies not covered in this review, the cash deposit rate will continue to be the company-specific rate published for the most recent period; (3) if the exporter is not a firm covered in this or any previous review or in the original less-than-fair-value (LTFV) investigation but the manufacturer is, the cash deposit rate will be the rate established for the most recent period for the manufacturer of the merchandise; and (4) if neither the exporter nor the manufacturer is a firm covered in this or any previous review or the LTFV investigation, the cash deposit rate will continue to be the all-others rate of 5.71 percent, which is the all-others rate established by Commerce in the LTFV investigation.¹⁶ These cash deposit requirements, when imposed, shall remain in effect until further notice.

¹⁶ See Order at 44176 (showing the dumping margin computed for all other producers/exporters as 24.14 percent); and Notice of Final Determination of Sales at Less Than Fair Value: Polyethylene Terephthalate Film, Sheet, and Strip from India, 67 FR 34899, 34901 (May 16, 2002) (showing an adjustment of 18.43 percent for export subsidies found in the companion countervailing duty investigation). The cash deposit rate for all other exporters is the net of these figures (i.e., 5.71 percent).

Notification to Importers

This notice also serves as a final reminder to importers of their responsibility under 19 CFR 351.402(f)(2) to file a certificate regarding the reimbursement of ADs prior to liquidation of the relevant entries during this review period. Failure to comply with this requirement could result in the Commerce's presumption that reimbursement of ADs occurred and the subsequent assessment of double ADs.

Administrative Protective Order

This notice also serves as a final reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

These results are being issued and published in accordance with sections 751(a)(1) and 777(i)(1) of the Act, and 19 CFR 351.221(b)(5) and 19 CFR 351.213(h)(2).

Dated: January 29, 2024.
Abdelali Elouaradia,
Deputy Assistant Secretary for Enforcement and Compliance.

[FR Doc. 2024-02181 Filed 2-2-24; 8:45 am]

BILLING CODE 3510-DS-P